DEPARTMENT OF EDUCATION

[Docket No.: ED-2023-SCC-0139]

Agency Information Collection Activities; Comment Request; Teacher Education Assistance for College and Higher Education Grant Eligibility Regulations

AGENCY: Federal Student Aid (FSA), Department of Education (ED).

ACTION: Notice.

SUMMARY: In accordance with the Paperwork Reduction Act (PRA) of 1995, the Department is proposing an extension without change of a currently approved information collection request (ICR).

DATES: Interested persons are invited to submit comments on or before September 22, 2023.

ADDRESSES: To access and review all the documents related to the information collection listed in this notice, please use http://www.regulations.gov by searching the Docket ID number ED-2023-SCC-0139. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Beth Grebeldinger, (202) 377-4018.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Teacher Education Assistance for College and Higher Education Grant Eligibility Regulations.

OMB Control Number: 1845-0084.

Type of Review: Extension without change of a currently approved ICR.

Respondents/Affected Public: Private Sector; Individuals or Households; State, Local, or Tribal Governments.

Total Estimated Number of Annual Responses: 233,844.

Total Estimated Number of Annual Burden Hours: 37,175.

Abstract: The College Cost Reduction and Access Act (the CCRAA), Public Law 110-84, established the Teacher Education Assistance for College and Higher Education (TEACH) Grant Program under Part A of the Higher Education Act of 1965, as amended (the HEA). The regulations for the TEACH Grant Program are in 34 CRF 686. The following sections of the TEACH Grant regulations are included in this information collection: 686.4, 686.11, 686.32, and 686.34. This is a request for an extension of the existing burden hours in OMB Control Number 1845-0084. The regulations in 686.4 require an institution that ceases to participate or becomes ineligible to participate in the TEACH Grant program during an award year to report to the Department of Education (the Department) within 45 days after the effective date of the loss of eligibility. The regulations in 686.11 establish that in addition to meeting the student eligibility requirements, in order to receive a TEACH Grant the applicant must submit the designated application, sign a TEACH Grant agreement to serve or repay (this burden is captured under OMB Control Number 1845-0083), and enroll in a TEACH Grant eligible institution. The regulations in 686.32 require an institution to provide initial, subsequent, and exit counseling to each TEACH Grant recipient and maintain documentation substantiating the counseling requirements. The regulations in 686.34 require the institution to promptly provide written notification to a student requesting repayment of any overpayment that the institution does not have responsibility to repay. The regulations also require that the institution refer the student to the Department if the student does not take positive action to promptly resolve the TEACH Grant overpayment. In addition, in 686.34 there is conversion counseling requirements for grant recipients whose TEACH Grants are converted to Direct Unsubsidized Loans.

Dated: July 18, 2023.
Kun Mullan,
PRA Coordinator, Strategic Collections and Clearance, Governance and Strategy Division, Office of Chief Data Officer, Office of Planning, Evaluation and Policy Development.

[FR Doc. 2023-15567 Filed 7-21-23; 8:45 am]

BILLING CODE 4000-01-P